ELECTION ASSISTANCE COMMISSION

Meeting: Technical Guidelines Development Committee; “Voluntary Voting Systems Guidelines and Technical Requirements”

AGENCY: U.S. Election Assistance Commission.

ACTION: Notice of public meeting.

DATES: Thursday, September 19, 2019, from 9:00 a.m. until 5:00 p.m., Eastern time, and Friday, September, 2019 from 9:00 a.m. to 1:00 p.m., Eastern time (estimated based on speed of business).

ADDRESSES: The meeting will take place at the U.S. Election Assistance Commission, 1335 East-West Highway (First Floor Conference Room), Silver Spring, MD 20910, (301) 563-3919.

FOR FURTHER INFORMATION CONTACT: Jerome Lovato, Telephone: (301) 563-3929.

SUPPLEMENTARY INFORMATION:

Purpose: In accordance with the Federal Advisory Committee Act (FACA), Public Law 92-463, as amended (5 U.S.C. Appendix 2), the U.S. Election Assistance Commission (EAC) Technical Guidelines Development Committee will conduct an open meeting to discuss the Voluntary Voting System Guidelines and Technical Requirements.

Agenda: The Technical Guidelines Development Committee (TGDC) will discuss the Voluntary Voting System Guidelines 2.0 (VVSG 2.0) and all accompanying Technical Requirements. The TGDC will discuss the next TGDC meeting dates and the continuing steps to develop the Technical Requirements. There may be votes conducted at this meeting. Final Agenda will be published at www.eac.gov before the meeting.

The TGDC will discuss the Requirements of the VVSG 2.0. Draft VVSG Requirements can be found at the link below: https://collaborate.nist.gov/voting/bin/view/Voting/VVSG20DraftRequirements. The most current version of the draft VVSG 2.0 Requirements is clearly marked at the top of the page to ensure the latest version is the topic of discussion at the time of the meetings. As stated in the disclaimer (and in each document), the Requirements are in a draft state and are not yet ready for final posting in their current form. These are provided “as is” for facilitating on-going discussions, but do not yet represent an official or final version. Members of the public may submit relevant written statements about the meeting's content to the TGDC no later than 3:00 p.m. EDT on Wednesday, September 18, 2019.

Statements may be sent electronically via https://www.eac.gov/contact/, via standard mail addressed to the U.S. Election Assistance Commission, TGDC, 1335 East-West Highway, Suite 4300, Silver Spring, MD 20910, or by fax at 301-734-3108. This meeting is open to the public.

Dated: September 3, 2019.
Clifford D. Tatum,
General Counsel, U.S. Election Assistance Commission.

[FR Doc. 2019-19289 Filed 9-5-19; 8:45 am]

BILLING CODE 6820-KF-P